ENVIRONMENTAL PROTECTION AGENCY

[FRL-9941-97-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1362.10; NESHAP for Coke Oven Batteries (Renewal); 40 CFR part 63, subparts A and L; was approved without change on 1/27/2016; OMB Number 2060-0253; expires on 1/31/2019.

EPA ICR Number 2491.02; Agricultural Worker Protection Standard Training, Notification and Recordkeeping (Final Rule); 40 CFR part 170; was approved without change on 1/21/2016; OMB Number 2070-0190; expires on 1/31/2019.

EPA ICR Number 1360.15; Revision of Information Collection Request for Underground Storage Tanks: Technical and Financial Requirements, and State Program Approval Procedures (Final Rule); 40 CFR parts 280 and 281; was approved without change on 1/14/2016; OMB Number 2050-0068; expires on 1/31/2019.

EPA ICR Number 1656.15; Risk Management Program Requirements and Petitions to Modify the List of Regulated Substances under Section 112(r) of the Clean Air Act (Renewal); 40 CFR part 68; was approved without change on 1/14/2016; OMB Number 2050-0144; expires on 1/31/2019.

EPA ICR Number 1867.06; Voluntary Aluminium Industrial Partnership (VAIP) (Renewal); was approved without change on 1/14/2016; OMB Number 2060-0411; expires on 1/31/2019.

EPA ICR Number 1821.08; NESHAP for Steel Pickling, HCI Process Facilities and Hydrochloric Acid Regeneration Plants (Renewal); 40 CFR part 63, subparts A and CCC; was approved without change on 1/12/2016; OMB Number 2060-0419; expires on 1/31/2019.

EPA ICR Number 2468.02; NPDES Electronic Reporting (Final Rule); 40 CFR parts 122, 123, 127, 403, 501, and 503; was approved without change on 1/11/2016; OMB Number 2020-0035; expires on 1/31/2019.

EPA ICR Number 2507.01; Lead Training, Certification, Accreditation and Authorization Activities (New); 40 CFR part 745; was approved with change on 1/8/2016; OMB Number 2070-0195; expires on 1/31/2019.

EPA ICR Number 0107.11; Air Stationary Source Compliance and Enforcement Information Reporting (Renewal); 40 CFR parts 51, 52, 60, 61, and 63; was approved without change on 1/5/2016; OMB Number 2060-0096; expires on 1/31/2019.

EPA ICR Number 2203.05; Amendments to the Protocol Gas Verification Program, and Minimum Competency Requirements for Air Emission (Renewal); 40 CFR parts 72 and 75; was approved without change on 1/5/2016; OMB Number 2060-0626; expires on 1/31/2019.

EPA ICR Number 1783.08; NESHAP for Flexible Polyurethane Foam Product (Final Rule); 40 CFR part 63, subparts A and III; was approved with change on 1/4/2016; OMB Number 2060-0357; expires on 1/31/2019.

EPA ICR Number 2475.02; Labeling Change for Certain Minimum Risk Pesticides under FIFRA Section 25(b) (New); 40 CFR part 152; was approved with change on 2/22/2016; OMB Number 2070-0187; expires on 2/28/2019.

EPA ICR Number 1426.11; EPA Worker Protection Standards for Hazardous Waste Operations and Emergency Response (Renewal); 40 CFR part 311; was approved without change on 2/3/2016; OMB Number 2050-0105; expires on 2/28/2019.

Comment Filed

EPA ICR Number 2493.02; Categorical Non-Waste Determination for Selected Non Hazardous Secondary Materials (NHSM): Construction and Demolition Wood, Paper Recycling Residuals, and Creosote-Treated Railroad Ties (Additions to List of Section 241.4 Categorical Non-Waste Fuels) (Proposed Rule); 40 CFR parts 63 and 241; OMB filed comment on 1/20/2016.

Courtney Kerwin,
Acting Director, Collections Strategies Division.

[FR Doc. 2016-10755 Filed 5-6-16; 8:45 am]

BILLING CODE 6560-50-P